SMALL BUSINESS ADMINISTRATION

Invention, Innovation, and Entrepreneurship Advisory Committee

AGENCY: Small Business Administration (SBA).

ACTION: Notice of the establishment of the Invention, Innovation, and Entrepreneurship Advisory Committee.

SUMMARY: The SBA announces the establishment of the Invention, Innovation, and Entrepreneurship Advisory Committee. The Administrator has determined that establishing the Invention, Innovation, and Entrepreneurship Advisory Committee is necessary and in the public interest.

DATES: The Invention, Innovation, and Entrepreneurship Advisory Committee will operate for two years after the filing date of its charter that will meet the 15-days requirements of the Federal Register Notice, unless otherwise renewed in accordance with FACA.

FOR FURTHER INFORMATION CONTACT: Invention, Innovation, and Entrepreneurship Advisory Committee Designated Federal Officer, Jennifer Shieh, Director of Ecosystem Development, Office of Investment and Innovation, 202-205-6817, IIEAC@sba.gov.

SUPPLEMENTARY INFORMATION: This notice announces the establishment of the Invention, Innovation, and Entrepreneurship Advisory Committee as a Federal Advisory Committee in accordance with the Federal Advisory Committee Act (Pub. L. 92-463, 5 U.S.C. app. 2) to provide information, advice, and recommendations to the Administrator on matters broadly related the U.S. startup and small business innovation ecosystem, and more specifically supporting innovation across the U.S.; developing and/or evolving SBA programs and services to address commercialization hurdles; addressing vulnerabilities and gaps in funding domestic invention and innovation; facilitating and enabling broad access and participation in federal innovation support and funding programs. The Committee is tasked with examining the issues, challenges, and obstacles facing U.S. innovation economy stakeholders in these subject areas. The Committee will only undertake tasks assigned to it by the Administrator. The Federal Register Notice will be published 15 days prior to filing the charter with Congress. This notice is provided in accordance with the Federal Advisory Committee Act.

Dated: July 25, 2022.
Andrienne Johnson,
Committee Management Officer.

[FR Doc. 2022-16247 Filed 8-1-22; 8:45 am]

BILLING CODE P